DEPARTMENT OF STATE

[Public Notice 10943]

Consideration of Buhary Seyed Abu (BSA) Tahir's Request To Terminate Sanctions Imposed Under the Nuclear Proliferation Prevention Act and the Export-Import Bank Act for His Role in the A.Q. Khan Nuclear Network

ACTION: Notice.

SUMMARY: On January 12, 2009, the Department of State imposed sanctions under various authorities on members of the A.Q. Khan nuclear procurement network including, BSA Tahir, a Sri Lankan national and key middleman involved in the network. This resulted in Tahir's addition to the Department of the Treasury's Office of Foreign Assets Control (OFAC) List of Specially Designated Nationals and Blocked Persons (SDN List). Tahir was also sanctioned by the State Department under the Nuclear Nonproliferation Prevention Act and the Export-Import Bank Act of 1945. Today, a determination has been made to terminate the measures imposed on Buhary Seyed Abu Tahir.

DATES: Applicable Date is December 2, 2019.

FOR FURTHER INFORMATION CONTACT: Rachael Jagielski, Office of Counterproliferation Initiatives, Bureau of International Security and Nonproliferation, Department of State, Washington, DC 20520, tel: 202-647-7594.

Gonzalo O. Suarez,
Acting Deputy Assistant Secretary, International Security and Non-Proliferation, Department of State.

[FR Doc. 2019-25993 Filed 11-29-19; 8:45 am]

BILLING CODE 4710-27-P